DEPARTMENT OF THE INTERIOR

Bureau of Land Management

[UT-923-05-1330-00]

Known Gilsonite Leasing Area

AGENCY: Bureau of Land Management, Interior.

ACTION: Notice of Known Leasing Area.

SUMMARY: Notice is hereby given that based upon recent geologic information the following lands have been classified as the Bonanza, Cowboy, Independent, Little Emma and Wagon Hound Known Leasing Areas for gilsonite. Detailed information regarding this action, a description of the lands included in the Bonanza, Cowboy, Independent, Little Emma and Wagon Hound Known Leasing Areas, and the gilsonite Master Title Plats (MTPs) showing the boundaries of the proposed known leasing areas, are available to the public in the Public Room of the Utah State Office of the BLM.

DATES: Effective Date: December 19, 2006.

ADDRESSES: Inquiries should be sent to the State Director (UT-923), Bureau of Land Management, Utah State Office, 440 West 200 South, Suite 500, Salt Lake City, Utah 84101.

FOR FURTHER INFORMATION CONTACT: Stan Perkes (801) 539-4036.

Pursuant to the authority contained in the Act of March 3, 1879, (43 U.S.C. 31), as Supplemented by Reorganization Plan No. 3 of 1950 (43 U.S.C. 1451, note) 220 Departmental Manual 2, and Secretarial Orders No. 3071 and 3087, the Bonanza, Cowboy, Independent, Little Emma and Wagon Hound Known Leasing Areas (Gilsonite), is established, as follows:

Salt Lake Meridian

Bonanza

T. 9 S., R. 24 E., SLM, Utah

sec. 7, SE¼SW¼, S½SE¼;

sec. 16, SW¼NW¼, N½SW¼, W½SE¼SE¼;

sec. 17, S½NE¼, N½NW¼, SE¼NW¼;

sec. 18, NE¼NE¼;

Cowboy

T. 8 S., R. 23 E., SLM, Utah

sec. 36, N½NE¼.

T. 8 S., R. 24 E., SLM, Utah

sec. 31, S½NE¼, N½NW¼, SE¼NW¼;

sec. 32, S½NW¼, NE¼SW¼, N½SE¼.

Independent

T. 8 S., R. 23 E., SLM, Utah

sec. 33, N½SE¼, SE¼SE¼;

sec. 34, S½SW¼, SW¼SE¼;

T. 9 S., R. 23 E., SLM, Utah

sec. 1, SE¼SE¼;

sec. 2, SW¼NE¼, NW¼;

sec. 3, lots 1 &2;

sec. 12, NE¼NE¼;

T. 9 S., R. 24 E., SLM, Utah

sec. 7, lot 1, S½NE¼, E½NW¼, NE¼SE¼,

sec. 8, SW¼NW¼, N½SW¼.

Little Emma

T. 9 S., R. 23 E., SLM, Utah

sec. 22, S½NE¼, N½NW¼, NE¼SW¼, NE¼SE¼;

sec. 23 N½SW¼, SE¼SW¼, S½SE¼;

sec. 25, N½NW¼;

sec. 26, NE¼NE¼.

Wagon Hound

T. 9 S., R. 24 E., SLM, Utah

sec. 20, SE¼SW¼;

sec. 28, SW¼NE¼, NW¼NW¼, S½NW¼, N½SE¼.

Containing 2,870.21 acres, more or less.

Dated: August 17, 2006.
Kent Hoffman,
Deputy State Director, Lands and Minerals.

[FR Doc. E6-21468 Filed 12-18-06; 8:45 am]

BILLING CODE 4310-$$-P